DEPARTMENT OF ENERGY

Federal Energy Regulatory Commission

[Project No. 2302-101]

Brookfield White Pine Hydro LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: P-2302-101.

c. Date Filed: August 28, 2024.

d. Applicant: Brookfield White Pine Hydro LLC.

e. Name of Project: Lewiston Falls Hydroelectric Project.

f. Location: On the Androscoggin River in the cities of Auburn and Lewiston and the town of Durham, in Androscoggin County, Maine.

g. Filed Pursuant to: Federal Power Act 16 U.S.C. 791(a)-825(r).

h. Applicant Contact: Mr. Luke T. Anderson, Senior Manager, Licensing, Brookfield White Pine Hydro LLC, 150 Main Street, Lewiston, ME 04240; Telephone: (207) 755-5600.

i. FERC Contact: Ryan Hansen at (202) 502-8074 or email at ryan.hansen@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 28, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Lewiston Falls Hydroelectric Project (P-2302-101).

m. The application is not ready for environmental analysis at this time.

n. Project Description: The existing Lewiston Falls Hydroelectric Project consists of: (1) a dam consisting of 5 distinct sections: (a) a 154-foot-long stone masonry section topped with a single rubber dam for a total elevation of 169.07 feet,¹ (b) a 279-foot-long stone masonry section topped with a single rubber dam for a total elevation of 169.07 feet, (c) a 161-foot-long stone masonry section topped with a single rubber dam for a total elevation of 168.60 feet, (d) a 162-foot-long stone masonry section topped with a single rubber dam for a total elevation of 168.60 feet, and (e) a 57-foot-long concrete section topped with a 1.34-foot-high flashboards for a total elevation of 168.17 feet; (2) a 2.5-mile-long, 169-acre impoundment at a full pond elevation of 168.17 feet; (3) an 85-foot-long, 2-inch-wide, 40-foot-high reinforced concrete intake with a trashrack; (4) a reinforced concrete powerhouse containing two vertical Kaplan turbine generators for a total installed capacity of 28.44 megawatts; (5) a 400-foot-long, 75-foot-wide excavated tailrace; (6) a 111.6-foot-long, 26.3-foot-wide masonry gatehouse located at the southeast corner of the impoundment diverting flow to a canal system; (7) a 12.5 to 34.5-kV, 30 megavolt-ampere transformer; (8) a primary transmission line connected to Central Maine Power's distribution system; and (8) appurtenant facilities.

¹ All elevations are referenced to a vertical datum of National Geodetic Vertical Datum of 1929.

The project is operated as run-of-river with daily impoundment fluctuations of one foot or less but is licensed to operate with up to four feet of impoundment fluctuation to allow for adjustments between inflow and a minimum flow requirement of 1,430 cubic feet per second or in response to operating emergencies. The estimated annual generation is 157,614 megawatt-hours.

The project recreation facilities include: (1) the Lewiston Falls Impoundment Boat Launch (also known as Haggins Boat Launch), (2) the West Pitch Park Overlook, and (3) the Durham Boat Launch.

o. A copy of the application is available for review on the Commission's website at http://www.ferc.gov using the “eLibrary” link. Enter the docket number excluding the last three digits in the docket number field to access the document (P-2302). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

p. Procedural Schedule and Final Amendments: The application will be processed according to the following preliminary schedule. Revisions to the schedule will be made as appropriate.

Milestone | Target date
Issue Deficiency Letter (if necessary) | November 2024.
Request Additional Information | November 2024.
Issue Acceptance Letter | February 2025.
Issue Scoping Document 1 for Comments | March 2025.
Issue Scoping Document 2 (if necessary) | June 2025.

Final amendments to the application must be filed with the Commission no later than 30 days from the issuance date of the notice of ready for environmental analysis.

Dated: September 9, 2024.
Debbie-Anne A. Reese,
Acting Secretary.

[FR Doc. 2024-20832 Filed 9-12-24; 8:45 am]

BILLING CODE 6717-01-P